DEPARTMENT OF HOMELAND SECURITY

Federal Emergency Management Agency

[Docket ID: FEMA-2021-0008; OMB No. 1660-0025]

Agency Information Collection Activities: Proposed Collection; Comment Request; Non-Disaster (ND) Grants System

AGENCY: Federal Emergency Management Agency, Department of Homeland Security.

ACTION: 60 Day Notice of Reinstatement and request for comments.

SUMMARY: The Federal Emergency Management Agency (FEMA), as part of its continuing effort to reduce paperwork and respondent burden, invites the general public to take this opportunity to comment on a reinstatement, with change, of a previously approved information collection. In accordance with the Paperwork Reduction Act of 1995, this notice seeks comments concerning the Non-Disaster (ND) Grants System.

DATES: Comments must be submitted on or before May 18, 2021.

ADDRESSES: To avoid duplicate submissions to the docket, please submit comments at www.regulations.gov under Docket ID FEMA-2021-0008. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via the link on the homepage of www.regulations.gov.

FOR FURTHER INFORMATION CONTACT: Everett Yuille, Branch Chief for Systems and Business Support, Grant Operations Division, Grant Programs Directorate, FEMA, at (202) 786-9457. You may contact the Information Management Division for copies of the proposed collection of information at email address: FEMA-Information-Collections-Management@fema.dhs.gov.

SUPPLEMENTARY INFORMATION: Title 2 CFR, Part 200, Uniform Administrative Requirements, Cost Principals, and Audit Requirements for Federal Awards, establishes uniform administrative requirements, cost principles, and audit requirements for the Federal Emergency Management Agency (FEMA). It is necessary to standardize FEMA's grant administration processes to minimize the burden for State and local partners and other recipients to manage grants such as:

• The Cooperating Technical Partners (CTP) Program;

• The National Dam Safety Program (NDSP);

• The National Incident Management System (NIMS);

• The National Urban Search and Rescue (US&R) Response System Readiness Cooperative Agreement;

• The Community Assistance Program—State Support Services Elements (CAP-SSSE);

• The Emergency Food and Shelter Program (EFSP);

• The Emergency Management Baseline Assessment Grant (EMBAG);

• The Homeland Security National Training Program (HSNTP)/Continuing Training Grants (CTG);

• The Homeland Security Preparedness Technical Assistance Program (HSPTAP);

• The National Earthquake Hazard Reduction Program (NEHRP); and

• The State Fire Training Systems Grant Program.

Because FEMA currently relies on separate systems, which are neither integrated, nor capable of supporting the full lifecycle of FEMA non-disaster grants (announcement through close-out), FEMA must separately collect and collate program, financial, and performance data from the two systems as well as external sources, to inform policy makers and assist decision-making at all levels. By fully integrating and automating these systems through ND Grants (https://portal.fema.gov), FEMA will obtain more efficient and effective operations that better serve the needs of both internal and external stakeholders.

With the Non-Disaster (ND) Grants System, FEMA implements a single, integrated, web-based, grants data collection and management system, combining all existing grant management functions of both grants systems, manual processes, and incorporate any additional functionality required by the Department of Homeland Security. This will result in the capability to manage all activities associated with non-disaster grants processes within a single full lifecycle grants management system. This system will ease the burden on grantees, providing them the functionality to manage their organization, more easily submit their applications online, and report on their performance toward completing their objectives. The new system will interface with Grants.gov and applicants will be notified via email to enter the system and review their applications. Grantees will then attach the detailed budget worksheet and the investment justifications.

With ND Grants, FEMA seeks to meet the intent of the E-Government initiative, authorized by Public Law 106-107 passed on November 20, 1999, that requires that all government agencies both streamline grant application processes and provide a mechanism to electronically create, review, and submit a grant application via the internet. The E-Government initiative is further governed by the E-Government Act of 2002, Public Law 107-347.

Collection of Information

Title: Non-Disaster (ND) Grants System.

Type of Information Collection: Reinstatement, with change, of a previously approved information collection.

OMB Number: 1660-0025.

FEMA Forms: Non-Disaster (ND) Grants System.

Abstract: ND Grants is a web-based grants management system that fulfills FEMA's strategic initiative to consolidate the entire non-disaster grants management lifecycle into a single system. Currently, ND Grants has functionality that supports the grantee application process, award acceptance, amendments, and performance reporting.

Affected Public: State, Tribal, or local government; non-profits; institutions of higher education; hospitals; and for-profit entities.

Number of Respondents: 2,380.

Number of Responses: 52,598.

Estimated Total Annual Burden Hours: 26,299 hours.

Estimated Total Annual Respondent Cost: $1,422,776.

Estimated Respondents' Operation and Maintenance Costs: $0.

Estimated Respondents' Capital and Start-Up Costs: $0.

Estimated Total Annual Cost to the Federal Government: $24,588,479.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-05713 Filed 3-18-21; 8:45 am]

BILLING CODE 9111-78-P